DEPARTMENT OF HOMELAND SECURITY

Coast Guard

33 CFR Part 110

[Docket No. USCG-2008-1232]

RIN 1625-AA01

Anchorages; New and Revised Anchorages in the Captain of the Port Portland, OR, Area of Responsibility

AGENCY: Coast Guard, DHS.

ACTION: Notice of proposed rulemaking.

SUMMARY: The Coast Guard proposes the establishment of a new anchorage, modification of existing anchorages, and revision of the regulations governing anchorages in the Captain of the Port Portland, Oregon, area of responsibility. These changes are necessary to ensure sufficient anchorage opportunities in that area, and to clarify the locations of those anchorage opportunities. In addition, the changes will help prevent conflicts with navigable channels and other uses of anchorage waters.

DATES: Comments and related material must be received by the Coast Guard on or before July 27, 2009. Requests for public meetings must be received by the Coast Guard on or before June 25, 2009.

ADDRESSES: You may submit comments identified by docket number USCG-2008-1232 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail MST1 Jaime Sayers, Waterways Management Branch, Coast Guard Sector Portland, telephone 503-240-9300, e-mail: Jaime.A.Sayers@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2008-1232), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, select the Advanced Docket Search option on the right side of the screen, insert “USCG-2008-1232” in the Docket ID box, press Enter, and then click on the balloon shape in the Actions column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, select the Advanced Docket Search option on the right side of the screen, insert USCG-2008-1232 in the Docket ID box, press Enter, and then click on the item in the Docket ID column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But, you may submit a request for one on or before June 25, 2009 using one of the four methods specified under ADDRESSES. Please explain why you believe a public meeting would be beneficial. If we determine that a public meeting would aid this rulemaking, we will hold one at a time and place announced by a later notice in the Federal Register.

Background and Purpose

The establishment of a new anchorage, modification of existing anchorages, and revision of the regulations governing anchorages contained in this rule are necessary to ensure sufficient anchorage opportunities in the Captain of the Port Portland, Oregon, area of responsibility, and ensure that the locations of those opportunities are clear. In addition, the changes will help prevent conflicts with navigable channels and other uses of anchorage waters. Currently, there are insufficient anchorage opportunities in the Captain of the Port Portland, Oregon, area of responsibility, and many of them conflict with navigable channels and other uses of the anchorage waters.

Discussion of Proposed Rule

The proposed rule would revise the following anchorages as noted. The Astoria North Anchorage would be revised to provide additional anchoring area and add an additional area to accommodate the swing of vessels. The Astoria South Anchorage would be revised to ensure that anchored vessels are clear of the navigable channel and that the anchorage correlates with current NOAA navigational charts. The Longview Anchorage would be revised to move it out of the navigational channel and expand it to account for vessel swing. The Kalama Anchorage would be revised to provide additional anchoring area and add an additional area to accommodate the swing of vessels. The Woodland Anchorage would be revised to ensure the anchorage correlates with current NOAA navigational charts. The Henrici Bar Anchorage would be revised to move it out of the navigational channel. The Willow Bar Anchorage would be renamed the Vancouver Lower Anchorage and revised to consolidate the Willow Bar Anchorage and the anchorage areas off of the Morgan Bar. The Kelley Point Anchorage would be revised to ensure the anchorage correlates with current NOAA navigational charts. The Hayden Island Anchorage would be renamed the Upper Vancouver Anchorage and revised to expand the anchorage and move the anchorage out of the navigational channel.

The proposed rule would also create a new anchorage called the Cottonwood Island Anchorage near Cottonwood Island.

The regulations governing the anchorages would be amended to remove provisions that are no longer necessary, due to changes in the use of the anchorage areas for fishing, and to add a provision to prevent anchoring vessels from entangling underground cables.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, and does not require an assessment of potential costs and benefits under section 6(a)(3) of that Order. The Office of Management and Budget has not reviewed it under that Order. The establishment of a new anchorage, modification of existing anchorages, and revision of the regulations governing anchorages do not have any significant costs associated with them.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: The owners or operators of vessels intending to transit or anchor in the Captain of the Port Portland, Oregon, area of responsibility. However, the establishment of a new anchorage, modification of existing anchorages, and revision of the regulations governing anchorages that would result from this rule would have no economic impact on small entities because anchorages can still be transited and used for other maritime activities besides anchoring.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the Waterways Management Branch, Coast Guard Sector, Portland, Oregon, telephone 503-240-9300. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under ADDRESSES. This proposed rule involves the establishment of a new anchorage, modification of existing anchorages, and revision of the regulations governing anchorages in the Captain of the Port Portland, Oregon, area of responsibility, which are categorically excluded under section 2.B.2 Figure 2-1, paragraph 34(f), of the Instruction. We seek any comments or information that may lead to the discovery of a significant environmental impact from this proposed rule.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

2. Revise § 110.228 to read as follows: § 110.228 Columbia River, Oregon and Washington.

(a) Anchorage grounds—(1) Astoria North Anchorage. An area enclosed by a line beginning northeast of Astoria, Oregon, at latitude 46°12′00.79″ N, longitude 123°49′55.40″ W; thence continuing easterly to latitude 46°12′02.00″ N, longitude 123°49′40.09″ W; thence continuing east-northeasterly to latitude 46°13′14.85″ N, longitude 123°46′27.89″ W; thence continuing south-southeasterly to latitude 46°13′00.56″ N, longitude 123°46′16.65″ W; thence continuing southwesterly to latitude 46°11′51.79″ N, longitude 123°49′18.08″ W; thence continuing west-southwesterly to latitude 46°11′46.27″ N, longitude 123°49′43.48″ W; thence continuing west-southwesterly to latitude 46°11′44.98″ N, longitude 123°49′49.44″ W; thence continuing westerly to latitude 46°11′44.32″ N, longitude 123°49′58.88″ W; thence continuing northeasterly to the point of the beginning.

(2) Astoria South Anchorage. An area enclosed by a point beginning east-northeast of Astoria, Oregon, at latitude 46°11′46.95″ N, longitude 123°49′13.04″ W; thence continuing northeasterly to latitude 46°13′02.18″ N, longitude 123°45′54.55″ W; thence continuing to easterly to latitude 46°13′05.90″ N, longitude 123°45′41.55″ W; thence continuing southeasterly to latitude 46°12′55.16″ N, longitude 123°45′34.31″ W; thence continuing southwesterly to latitude 46°12′24.32″ N, longitude 123°46′34.70″ W; thence continuing west-southwesterly to latitude 46°11′37.32″ N, longitude 123°49′03.46″ W; thence continuing north-northwesterly to the point of the beginning.

(3) Longview Anchorage. An area enclosed by a line beginning southeast of Longview, Washington, at latitude 46°06′28.69″ N, longitude 122°57′38.33″ W; thence continuing northwesterly to latitude 46°06′41.71″ N, longitude 122°58′01.25″ W; thence continuing westerly to latitude 46°07′22.55″ N, longitude 122°59′00.81″ W; thence continuing westerly to latitude 46°07′36.21″ N, longitude 122°59′19.29″ W; thence continuing southwesterly to latitude 46°07′28.44″ N, longitude 122°59′31.18″ W; thence continuing easterly to latitude 46°07′14.77″ N, longitude 122°59′12.70″ W; thence continuing easterly to latitude 46°06′42.01″ N, longitude 122°58′28.41″ W; thence continuing northeasterly to latitude 46°06′34.27″ N, longitude 122°58′14.21″ W; thence continuing northeasterly to latitude 46°06′32.19″ N, longitude 122°58′08.77″ W; thence continuing northeasterly to latitude 46°06′22.44″ N, longitude 122°57′43.27″ W; thence continuing northeasterly to the point of the beginning. °

(4) Kalama Anchorage. An area to be enclosed by a line beginning north-northwesterly of Sandy Island at latitude 46°01′20.48″ N, longitude 122°52′04.32″ W; thence continuing east-southeasterly to latitude 46°00′57.73″ N, longitude 122°51′35.14″ W; thence continuing east-southeasterly to latitude 46°00′53.95″ N, longitude 122°51′30.29″ W; thence continuing southeasterly to latitude 46°00′35.10″ N, longitude 122°51′15.37″ W; thence continuing south-southeasterly to latitude 45°59′41.48″ N, longitude 122°50′52.40″ W; thence continuing southwesterly to latitude 45°59′38.65″ N, longitude 122°51′05.97″ W; thence continuing north-northwesterly to latitude 46°00′36.82″ N, longitude 122°51′45.44″ W; thence continuing west-northwesterly to latitude 46°01′24.38″ N, longitude 122°52′21.20″ W; thence continuing northeasterly to the beginning.

(5) Woodland Anchorage. An area enclosed by a line beginning northeast of Columbia City, Oregon, at latitude 45°53′55.31″ N, longitude 122°48′17.35″ W; thence continuing easterly to latitude 45°53′57.11″ N, longitude 122°48′02.16″ W; thence continuing south-southeasterly to latitude 45°53′21.16″ N, longitude 122°47′44.28″ W; thence continuing westerly to latitude 45°53′20.16″ N, longitude 122°48′02.37″ W; thence continuing northwesterly to latitude 45°53′41.50″ N, longitude 12°48′13.53″ W; thence continuing northerly to the point of beginning.

(6) Henrici Bar Anchorage. An area enclosed by a line beginning west-southwesterly of Bachelor Slough, Washington, at latitude 45°47′24.68″ N, longitude 122°46′49.14″ W; thence continuing east-southeasterly to latitude 45°46′44.95″ N, longitude 122°46′13.23″ W, thence continuing southeasterly to latitude 45°46′25.67″ N, longitude 122°46′00.54″ W; thence continuing south-southeasterly to latitude 45°46′02.69″ N, longitude 122°45′50.32″ N, longitude 122°45′50.32″ W; thence continuing southerly to latitude 45°45′43.66″ N, longitude 122°45′45.33″ W; thence continuing southerly to latitude 45°45′37.52″ N, longitude 122°45′44.99″ W; thence continuing westerly to latitude 45°45′37.29″ N, longitude 122°45′53.06″ W; thence continuing north-northwesterly to latitude 45°46′15.94″ N, longitude 122°46′10.25″ W; thence continuing west-northwesterly to latitude 45°47′20.20″ N, longitude 122°46′59.28″ W; thence continuing easterly to the point of beginning.

(7) Lower Vancouver Anchorage. An area enclosed by a line beginning north-northeast of Reeder Point at latitude 45°43′39.18″ N, longitude 122°45′27.54″ W; thence continuing south-southwesterly to latitude 45°41′26.95″ N, longitude 122°46′13.83″ W; thence continuing southerly to latitude 45°40′35.72″ N, longitude 122°46′09.98″ W; thence continuing south-southeasterly to latitude 45°40′23.95″ N, longitude 122°46′04.26″ W; thence continuing west-southwesterly to latitude 45°40′20.68″ N, longitude 122°46′16.07″ W; thence continuing northwesterly to latitude 45°40′32.85″ N, longitude 122°46′21.98″ W; thence continuing north-northwesterly to latitude 45°41′01.03″ N, longitude 122°46′26.85″ W; thence continuing northerly to latitude 45°41′29.07″ N, longitude 12°46′26.15″ W; thence continuing north-northeasterly to latitude 45°43′41.27″ N, longitude 122°45′39.87″ W; thence continuing easterly to the point of the beginning. The Vancouver lower anchorage will then resume slightly further upstream at an area north of Kelly point and will be enclosed by a line starting at latitude 45°40′10.09″ N, longitude 122°45′57.53″ W; thence continuing to southeasterly to latitude 45°39′42.94″ N, longitude 122°45′44.34″ W; thence continuing west-southwesterly to latitude 45°39′40.07″ N, longitude 122°45′56.34″ W; thence continuing northwesterly to latitude 45°40′06.75″ N, longitude 122°46′09.30″ W; thence continuing east-northeasterly to the point of the beginning.

(8) Kelly Point Anchorage. An area enclosed by a line beginning northeast of Kelly Point, Oregon, at latitude 45°39′10.32″ N, longitude 122°45′36.45″ W; thence continuing east-southeasterly to latitude 45°39′02.10″ N, longitude 122°45′21.67″ W; thence continuing east-southeasterly to latitude 45°38′59.15″ N, longitude 122°45′16.38″ W; thence continuing southwesterly to latitude 45°38′51.03″ N, longitude 122°45′25.57″ W; thence continuing westerly to latitude 45°38′51.54″ N, longitude 122°45′26.35″ W; thence continuing northwesterly to latitude 45°39′06.27″ N, longitude 122°45′40.50″ W; thence continuing north-northeasterly to the beginning point.

(9) Upper Vancouver Anchorage. An area enclosed by a line beginning north-northeast of Hayden Island at latitude 45°38′43.44″ N, longitude 122°44′39.50″ W; thence continuing northeasterly to 45°38′26.98″ N, longitude 122°43′25.87″ W; thence continuing east-northeasterly to latitude 45°38′17.31″ N, longitude 122°42′54.69″ W; thence continuing easterly to latitude 45°38′12.40″ N, longitude 122°42′43.93″ W; thence continuing east-southeasterly to latitude 45°37′40.53″ N, longitude 122°41′44.08″ W; thence south-southeasterly to latitude 45°37′36.11″ N, longitude 122°41′48.86″ W; thence continuing west-southwesterly to latitude 45°37′52.20″ N, longitude 122°42′19.50″ W; thence continuing west-southwesterly to latitude 45°38′10.75″ N, longitude 122°43′08.89″ W; thence continuing southwesterly to latitude 45°38′18.79″ N, longitude 122°43′44.83″ W; thence continuing westerly to latitude 45°38′41.37″ N, longitude 122°44′40.44″ W; thence continuing northeasterly to the point of beginning.

(10) Cottonwood Island Anchorage. An area enclosed by a line beginning west-southwest of Longview, WA at latitude 46°05′56.88″ N, longitude 122°56′53.19″ W; thence continuing easterly to latitude 46°05′14.06″ N, longitude 122°54′45.71″ W; thence continuing east-southeasterly to latitude 46°04′57.12″ N, longitude 122°54′12.41″ W; thence continuing southeasterly to latitude 46°04′37.55″ N, longitude 122°53′45.80″ W; thence continuing southeasterly to latitude 46°04′13.72″ N, longitude 122°53′23.66″ W; thence continuing southeasterly to latitude 46°03′54.94″ N, longitude 122°53′11.81″ W; thence continuing southerly to latitude 46°03′34.96″ N, longitude 122°53′03.17″ W; thence continuing westerly to latitude 46°03′32.06″ W, longitude 122°53′19.68″ N; thence continuing north-northwesterly to latitude 46°03′50.84″ N, longitude 122°53′27.81″ W; thence continuing northwesterly to latitude 46°04′08.10″ N, longitude 122°53′38.70″ W; thence continuing northwesterly to latitude 46°04′29.41″ N, longitude 122°53′58.17″ W; thence continuing north-northwesterly to latitude 46°04′49.89″ N, longitude 122°54′21.57″ W; thence continuing northwesterly to latitude 46°05′06.95″ N, longitude 122°54′50.65″ W; thence continuing northwesterly to latitude 46°05′49.77″ N, longitude 122°56′8.12″ W; thence continuing east-northeasterly to the point of the beginning.

(b) Regulations. (1) All designated anchorages are intended for the primary use of deep-draft vessels over 200 feet in length.

(2) If a vessel under 200 feet in length is anchored in a designated anchorage, the master or person in charge of the vessel shall:

(i) Ensure that the vessel is anchored so as to minimize conflict with large, deep-draft vessels utilizing or seeking to utilize the anchorage; and

(ii) Move the vessel out of the area if requested by the master of a large, deep-draft vessel seeking to enter or depart the area or if directed by the Captain of the Port.

(3) Vessels desiring to anchor in designated anchorages shall contact the pilot office that manages that anchorage to request an appropriate position to anchor. Columbia River Bar Pilots manage Astoria North Anchorage and Astoria South Anchorage. Columbia River Pilots manage all designated anchorages upriver from Astoria.

(4) No vessel may occupy a designated anchorage for more than 30 consecutive days without permission from the Captain of the Port.

(5) No vessel being layed-up or dismantled or undergoing major alterations or repairs may occupy a designated anchorage without permission from the Captain of the Port.

(6) No vessel carrying a Cargo of Particular Hazard listed in § 126.10 of this chapter may occupy a designated anchorage without permission from the Captain of the Port.

(7) No vessel in a condition such that it is likely to sink or otherwise become a hazard to the operation of other vessels shall occupy a designated anchorage except in an emergency, and then only for such periods as may be authorized by the Captain of the Port.

(8) Vessels anchoring in Astoria North Anchorage should avoid placing their anchor in the charted cable area.

Dated: May 8, 2009.
J.P. Currier,
Rear Admiral, U.S. Coast Guard, Commander, Thirteenth Coast Guard District.

[FR Doc. E9-12060 Filed 5-22-09; 8:45 am]

BILLING CODE 4910-15-P